DEPARTMENT OF ENERGY

Federal Energy Regulatory Commission

Notice Granting Limited Extension for Filing Comments, Final Terms and Conditions, Recommendations and Prescriptions

January 12, 2000.

Type of Application: New Major License.

Project Name & No.: Fifteen Mile Falls Project No. 2077-016.

Dated Filed: July 29, 1999.

Applicant: USGen New England, Inc.

Location: The project is located on the Connecticut River, in Grafton and Coos Counties, New Hampshire, and Caledonia and Essex Counties, Vermont.

Applicant Contact: Mr. Cleve Kapala, USGen New England, Inc., 46 Centerra Parkway, Lebanon, NH 03766.

FERC Contact: Any questions on this notice should be addressed to William Guey-Lee, E-mail address william.gueylee@ferc.fed.us, or telephone (202) 219-2808.

Deadline for filing comments, final terms and conditions, recommendations, and prescriptions:

The Appalachian Mountain Club, Connecticut River Joint Commission, Connecticut River Watershed Council, Conservation Law Foundation, New Hampshire Rivers Council, Trout Unlimited Vermont Chapter, and Trout Unlimited New Hampshire Chapter (NGOs), collectively, have requested an extension to June 1, 2000, for filing comments, final terms and conditions, and recommendations and prescriptions. The NGOs state the extension should allow the collaborative team to complete development of several draft management plans (including the Fisheries Management Plan, Forest and Wildlife Management Plan, Threatened and Endangered Species Management Plan, and the Recreation Resource Assessment and Management Plan), and have this information available before commenting. The NGOs state that this would provide greater efficacy and benefit to the process. Therefore, an extension to June 1, 2000, is granted for filing comments, final terms and conditions, and recommendations and prescriptions, but however, is limited to the draft management plans stated above. The deadline for filing other comments, final terms and conditions, and recommendations and prescriptions is January 31, 2000.

All documents (original and eight copies) should be filed with: David P. Boergers, Secretary, Federal Energy Regulatory Commission, 888 First St. NE, Washington, DC 20426. The Commission's Rules of Practice and Procedure require all intervenors filing documents with the Commission to serve a copy of that document on each person whose name appears on the official service list for the project. Further, if an intervenor files comments or documents with the Commission relating to the merits of an issue that may affect the responsibilities of a particular resource agency, the intervenor must also serve a copy of the document on that resource agency.

j. All filings must: (1) Bear in all capital letters the title “COMMENTS,” “RECOMMENDATIONS,” “TERMS AND CONDITIONS,” “PRESCRIPTIONS,” or “REPLY COMMENTS,” (2) set forth in the heading the name of the applicant and the project number of the application and APEA to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Any of these documents must be filed by providing the original and the number of copies required by the Commission's regulations to: Secretary, Federal Energy Regulatory Commission, 888 First Street, NE, Washington, DC 20426. An additional copy must be sent to: Director, Division of Licensing & Compliance, Federal Energy Regulatory Commission, at the above address. Each filing must be accompanied by proof of service on all persons listed on the service list prepared by the Commission in this proceeding, in accordance with 18 CFR 4.34(b) and 385.2010.

Linwood A. Watson, Jr.,
Acting Secretary.

[FR Doc. 00-1179 Filed 1-18-00, 8:45 am]

BILLING CODE 6717-01-M